DEPARTMENT OF TRANSPORTATION

Federal Aviation Administration

Fifteenth Meeting: RTCA Special Committee 203/Unmanned Aircraft Systems

AGENCY: Federal Aviation Administration (FAA), DOT.

ACTION: Notice of RTCA Special Committee 203, Unmanned Aircraft Systems.

SUMMARY: The FAA is issuing this notice to advise the public of a meeting of RTCA Special Committee 203, Unmanned Aircraft Systems.

DATES: The meeting will be held October 13-15, 2009 from 9 a.m.-5 p.m.

ADDRESSES: The meeting will be held at RTCA, Inc., 1828 L Street, NW., Suite 805, Washington, DC 20036. Point of Contact: RTCA Secretariat, POC: Rudy Ruana, Telephone: 202-833-9339, E-mail: rruana@rtca.org.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 203/Unmanned Aircraft Systems meeting. The agenda will include:

October 13:

• Opening Plenary Session.

• Introductory Remarks and Introductions.

• Approval of Fourteenth Plenary Summary.

• Plenary Presentations:

• Leadership Updates.

• Chairperson Update.

• Designated Federal Official (DFO) Update.

• Overview of SC-203 Terms of Reference (TOR's).

• Work Plan Status.

• Work Group Update.

• Work Product(s) flow into MASPS Overview.

• Plenary consideration of Operational Services and Environmental Definition (OSED) Product for Final Review and Comment (FRAC).

• Overview of Product Team Breakout Sessions.

• Closing Plenary Session.

• Date, Place, and Time for Plenary 16.

• Plenary Adjourns.

• Product Team Breakout Sessions.

• Requirements/Architecture Product Team.

• Operational Services and Environmental Definition (OSED) Product Team.

• Control & Communications (C&C) Product Team.

• Sense & Avoid (S&A) Product Team.

October 14:

• Product Team Breakout Sessions.

• Requirements/Architecture Product Team.

• Operational Services and Environmental Definition (OSED) Product Team.

• Control & Communications (C&C) Product Team.

• Sense & Avoid (S&A) Product Team.

October 15:

• Product Team Breakout Sessions.

• Requirements/Architecture Product Team.

• OSED Product Team.

• C&C Product Team.

• S&A Product Team.

• Product Team Back Briefs.

• Closing Plenary Session (Other Business, Date, Place, and Time for Plenary, Adjourns).

Note: Dress Business Casual.

Attendance is open to the interested public but limited to space availability. With the approval of the chairmen, members of the public may present oral statements at the meeting. Persons wishing to present statements or obtain information should contact the person listed in the “FOR FURTHER INFORMATION CONTACT” section. Members of the public may present a written statement to the committee at any time.

Issued in Washington, DC, on September 14, 2009.
Francisco Estrada C.,
RTCA Advisory Committee.

[FR Doc. E9-22636 Filed 9-18-09; 8:45 am]

BILLING CODE 4910-13-P